DEPARTMENT OF STATE

[Delegation of Authority No. 586]

Re-Delegation of Authority To Invoke the Law Enforcement Privilege for Information Relating to Security Vetting of Visa Applicants

ACTION: Delegation of Authority.

SUMMARY: The State Department is publishing a Delegation of Authority signed by the Assistant Secretary of Administration, pursuant to Department of State Delegations of Authority.

DATES: Effective June 27, 2025.

FOR FURTHER INFORMATION CONTACT: Alice Kottmyer, Attorney-Adviser, Office of Management, 202-647-2199.

SUPPLEMENTARY INFORMATION: José E.V. Cunningham, Assistant Secretary for Administration, signed the following document on June 27, 2025. The State Department maintains the original document.

(Begin text.)

By virtue of the authority delegated to the Under Secretary of State for Management by the laws of the United States, as delegated by Department of State Delegations of Authority No. 514 and No. 575, I hereby re-delegate to the Assistant Secretary for Consular Affairs, to the extent authorized by law, the authority to invoke the law enforcement privilege with respect to information relating to security vetting of visa applicants and visa holders to the United States.

This re-delegation of authority does not revoke or otherwise affect any other delegation of authority currently in effect. The authority re-delegated herein may also be exercised, to the extent authorized by law, by the Secretary, the Deputy Secretary, the Deputy Secretary for Management Resources, and the Under Secretary for Management.

This re-delegation will be published in the Federal Register.

Signed José E.V. Cunningham, Assistant Secretary, Bureau of Administration, Department of State.

[End text]

Authority: 22 U.S.C. 2651a; 5 U.S.C. 552.

Alice M. Kottmyer,
Attorney-Adviser, Office of Management, Department of State.

[FR Doc. 2025-12670 Filed 7-7-25; 8:45 am]

BILLING CODE 4710-08-P